DEPARTMENT OF TRANSPORTATION

Federal Aviation Administration

14 CFR Part 39

[Docket No. 2000-SW-50-AD; Amendment 39-12283; AD 2001-13-03]

RIN 2120-AA64

Airworthiness Directives; Kaman Aerospace Corporation Model K-1200 Helicopters

AGENCY: Federal Aviation Administration, DOT.

ACTION: Final rule.

SUMMARY: This amendment adopts a new airworthiness directive (AD) for Kaman Aerospace Corporation (Kaman) Model K-1200 helicopters that requires reducing the life limit of the rotor shaft and teeter pin assembly and establishing a life limit for the flap clevis. This amendment is prompted by the discovery of cracks in parts that were returned to the manufacturer. The actions specified by this AD are intended to prevent failure of the rotor shaft, teeter pin assembly, or flap clevis due to fatigue cracks, and subsequent loss of control of the helicopter.

EFFECTIVE DATE: August 1, 2001.

FOR FURTHER INFORMATION CONTACT: Richard Noll, Aviation Safety Engineer, Boston Aircraft Certification Office, 12 New England Executive Park, Burlington, MA 01803, telephone (781) 238-7160, fax (781) 238-7199.

SUPPLEMENTARY INFORMATION: A proposal to amend part 39 of the Federal Aviation Regulations (14 CFR part 39) to include an AD for Kaman Model K-1200 helicopters was published in the Federal Register on March 5, 2001 (66 FR 13269). That action proposed to require:

• Reducing the life limit for the rotor shaft from 10,000 hours time-in-service (TIS) to 3,750 TIS;

• Reducing the life limit of the teeter pin assembly from 10,000 hours TIS to 550 hours TIS; and

• Establishing a life limit of the flap clevis of 640 hours TIS.

Interested persons have been afforded an opportunity to participate in the making of this amendment. Due consideration has been given to the comment received.

The sole commenter states that paragraph (b) of the AD incorrectly limits the life limit of the rotor shaft to 3,740 hours TIS instead of 3,750 hours TIS. The FAA concurs. Paragraph (a) of the proposal states to remove from service certain rotor shafts that have 3750 or more hours TIS, however, in the recitation of that life limit in paragraph (b), 3740 hours TIS was inadvertently stated. We have corrected that mistake in this final rule.

After careful review of the available data, including the comment noted above, the FAA has determined that air safety and the public interest require the adoption of the rule with the change described previously. The FAA has determined that this change will neither increase the economic burden on any operator nor increase the scope of the AD.

The FAA estimates that 9 helicopters of U.S. registry will be affected by this AD, that it will take 0.25 hour per helicopter to accomplish the changes to the Limitations section of the applicable maintenance manual, and that the average labor rate is $60 per work hour. Based on these figures, the total cost impact of this AD on U.S. operators is estimated to be $135, plus an increase in hourly operating costs of approximately $13 for each affected helicopter.

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the FAA, Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-13-03 Kaman Aerospace Corporation: Amendment 39-12283. Docket No. 2000-SW-50-AD.

Applicability: Model K-1200 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required within 25 hours time-in-service, unless accomplished previously.

To prevent failure of the rotor shaft, teeter pin assembly, or flap clevis due to fatigue cracks, and subsequent loss of control of the helicopter, accomplish the following:

(a) Remove any rotor shaft, part number (P/N) K974112-001, -003, -005, -007, -009, or -101, that has 3,750 or more hours time-in-service (TIS) and replace it with an airworthy rotor shaft. Remove any teeter pin assembly, P/N K910005-007 or -009, that has 550 or more hours TIS and replace it with an airworthy teeter pin assembly. Remove any flap clevis, P/N K911049-011, -017, -019, or -021, that has 640 or more hours TIS and replace it with an airworthy flap clevis.

(b) This AD revises the Limitations section of the maintenance manual by reducing the life limit of the rotor shaft, P/N K974112-001, -003, -005, -007, -009, and -001, to 3,750 hours TIS; reducing the life limit of the teeter pin assembly, P/N K910005-007 and -009, to 550 hours TIS; and establishing a life limit for the flap clevis, P/N K911049-011, -017, -019, and -021, of 640 hours TIS.

(c) An alternative method of compliance or adjustment of the compliance time that provides an acceptable level of safety may be used if approved by the Manager, Boston Aircraft Certification Office, FAA. Operators shall submit their requests through an FAA Principal Maintenance Inspector, who may concur or comment and then send it to the Manager, Boston Aircraft Certification Office.

Note 2: Information concerning the existence of approved alternative methods of compliance with this AD, if any, may be obtained from the Boston Aircraft Certification Office.

(d) Special flight permits may be issued in accordance with sections 21.197 and 21.199 of the Federal Aviation Regulations (14 CFR 21.197 and 21.199) to operate the helicopter to a location where the requirements of this AD can be accomplished.

(e) This amendment becomes effective on August 1, 2001.

Issued in Fort Worth, Texas, on June 12, 2001.
Eric Bries,
Acting Manager, Rotorcraft Directorate, Aircraft Certification Service.

[FR Doc. 01-16046 Filed 6-26-01; 8:45 am]

BILLING CODE 4910-13-U